Proclamation 7351 of October 2, 2000

To Implement the United States-Caribbean Basin Trade

Partnership Act

By the President of the United States of America

A Proclamation

1. Section 211 of the United States-Caribbean Basin Trade Partnership Act (Title II of Public Law 106-200) (CBTPA), which amends section 213(b) of the Caribbean Basin Economic Recovery Act (CBERA) (19 U.S.C. 2703(b)), provides that certain preferential tariff treatment may be provided to eligible articles that are the product of any country that the President designates as a “CBTPA beneficiary country” pursuant to section 213(b)(5)(B) of the CBERA (19 U.S.C. 2703(b)(5)(B)), provided that the President determines that the country has satisfied the requirements of section 213(b)(4)(A)(ii) of the CBERA (19 U.S.C. 2703(b)(4)(A)(ii)) relating to the implementation of procedures and requirements similar to those in chapter 5 of the North American Free Trade Agreement (NAFTA).

2. Section 211 of the CBTPA, which amends section 213(b) of the CBERA (19 U.S.C. 2703(b)), provides that eligible textile and apparel articles of a designated CBTPA beneficiary country shall enter the United States free of duty and free of quantitative limitations, provided that the President determines that the country has satisfied the requirements of section 213(b)(4)(A)(ii) of the CBERA relating to the implementation of procedures and requirements similar to those in chapter 5 of the NAFTA.

3. Section 212 of the CBTPA, which amends section 213(a) of the CBERA (19 U.S.C. 2703(a)), provides duty-free treatment for certain liqueurs and spirituous beverages produced in Canada from rum that originates in a designated beneficiary country or the Virgin Islands of the United States.

4. In order to implement the tariff treatment provided under the CBTPA, it is necessary to modify the Harmonized Tariff Schedule of the United States (HTS), thereby incorporating the substance of the relevant provisions of the CBTPA.

5. Section 604 of the Trade Act of 1974 (the “1974 Act”) (19 U.S.C. 2483) authorizes the President to embody in the HTS the substance of the relevant provisions of that Act, and of other acts affecting import treatment, and actions thereunder, including the removal, modification, continuance, or imposition of any rate of duty or other import restriction.

6. I have determined that it is appropriate to authorize the United States Trade Representative (USTR) to perform the functions specified in section 213(b)(4)(A)(ii) of the CBERA and certain functions under section 604 of the 1974 Act.

NOW, THEREFORE, I, WILLIAM J. CLINTON, President of the United States of America, acting under the authority vested in me by the Constitution and the laws of the United States, including section 301 of title 3, United States Code, sections 211 and 212 of the CBTPA, section 213 of the CBERA, and section 604 of the 1974 Act, do proclaim that:

(1) In order to provide for the preferential treatment provided for in section 213 of the CBERA (19 U.S.C. 2703), as amended by the CBTPA, the HTS is modified as provided in the Annex to this proclamation.

(2) The following countries are designated as CBTPA beneficiary countries pursuant to section 213(b)(5)(B) of the CBERA:

Antigua and Barbuda

Aruba

Bahamas

Barbados

Belize

Costa Rica

Dominica

Dominican Republic

El Salvador

Grenada

Guatemala

Guyana

Haiti

Honduras

Jamaica

Montserrat

Netherlands Antilles

Nicaragua

Panama

St. Kitts and Nevis

Saint Lucia

Saint Vincent and the Grenadines

Trinidad and Tobago

British Virgin Islands

(3) The USTR is authorized to determine whether each designated beneficiary country has satisfied the requirements of section 213(b)(4)(A)(ii) of the CBERA relating to the implementation of procedures and requirements similar in all material respects to the relevant procedures and requirements under chapter 5 of the NAFTA. To implement such determination or determinations, the USTR is authorized to exercise the authority provided to the President under section 604 of the 1974 Act to embody modifications and technical or conforming changes in the HTS. The determination or determinations of the USTR under this paragraph shall be set forth in a notice or notices that the USTR shall cause to be published in the Federal Register. Such notice or notices shall modify general note 17 of the HTS by listing the countries that satisfy the requirements of section 213(b)(4)(A)(ii) of the CBERA.

(4) Any provisions of previous proclamations and Executive orders that are inconsistent with the actions taken in this proclamation are superseded to the extent of such inconsistency.

(5) This proclamation is effective on the date of signature of this proclamation, except that the modifications to the HTS made by the Annex to this proclamation, as further modified by any notice to be published in the Federal Register as described in paragraph 3 of this proclamation, shall be effective on the date announced by the USTR in such notice.

IN WITNESS WHEREOF, I have hereunto set my hand this second day of October, in the year of our Lord two thousand, and of the Independence of the United States of America the two hundred and twenty-fifth.

wj

Billing code 3195-01-P

[FR Doc. 00-25693

Filed 10-3-00; 11:03 am]

Billing code 3190-01-C